DEPARTMENT OF THE INTERIOR

Bureau of Land Management

[WY-920-1220-ET; WYW 74730]

Public Land Order No. 7565; Extension of Public Land Order No. 6368; Wyoming

AGENCY: Bureau of Land Management, Interior.

ACTION: Public Land Order.

SUMMARY: This order extends Public Land Order No. 6368 for an additional 20-year period. This extension is necessary to continue the protection of Horsethief and Natural Trap Caves in Big Horn County.

EFFECTIVE DATE: April 20, 2003.

FOR FURTHER INFORMATION CONTACT: Janet Booth, BLM Wyoming State Office, 5353 N. Yellowstone Road, P.O. Box 1828, Cheyenne, Wyoming 82003, 307-775-6124.

Order

By virtue of the authority vested in the Secretary of the Interior by Section 204 of the Federal Land Policy and Management Act of 1976, 43 U.S.C. 1714 (1994), it is ordered as follows:

1. Public Land Order No. 6368 (48 FR 16888, April 20, 1983), which withdrew 528.23 acres of public lands from surface entry and mining to protect Horsethief and Natural Trap Caves, is hereby extended for an additional 20-year period.

2. Public Land Order No. 6368 will expire on April 19, 2023, unless, as a result of a review conducted prior to the expiration date pursuant to Section 204(f) of the Federal Land Policy and Management Act of 1976, 43 U.S.C. 1714(f) (1994), the Secretary determines that the withdrawal shall be extended.

Dated: April 17, 2003.
Rebecca W. Watson,
Assistant Secretary—Land and Minerals Management.

[FR Doc. 03-10498 Filed 4-28-03; 8:45 am]

BILLING CODE 4310-22-P